ELECTION ASSISTANCE COMMISSION

Sunshine Act Meeting

AGENCY: U.S. Election Assistance Commission.

ACTION: Notice of EAC Standards Board Meeting.

DATE AND TIME: Thursday, February 24, 2011, 9 a.m.-5:15 p.m. CST and Friday, February 25, 2011, 9 a.m.-3 p.m. CST.

PLACE: Sheraton Oklahoma City Hotel, One North Broadway Avenue, Oklahoma City, OK 73102, Phone Number: (405) 235-2780.

AGENDA: The U.S. Election Assistance Commission (EAC) Standards Board will meet to discuss cost savings with regards to elections, implementation of the Military and Overseas Voter Empowerment Act (MOVE), and working with local media outlets to effectively communicate election information to the public. The Standards Board will also participate in a briefing on Commercial Off the Shelf hardware and software; and a discussion of election administration issues in the 112th Congress with a bipartisan panel of Congressional staff. The Standards Board will hear committee reports and have an opportunity to formulate recommendations to the EAC regarding presentation topics, receive updates on EAC activities, and consider other administrative matters. Finally, the Standards Board will elect the Executive Board of the Standards Board.

Members of the public may observe but not participate in EAC meetings unless this notice provides otherwise. Members of the public may use small electronic audio recording devices to record the proceedings. The use of other recording equipment and cameras requires advance notice to and coordination with the Commission's Communications Office.

This meeting will be open to the public.

PERSON TO CONTACT FOR INFORMATION: Bryan Whitener, Telephone: (202) 566-3100.

Thomas R. Wilkey,
Executive Director, U.S. Election Assistance Commission.

[FR Doc. 2011-3137 Filed 2-8-11; 4:15 pm]

BILLING CODE 6820-KF-P